ENVIRONMENTAL PROTECTION AGENCY

[FRL-6876-1]

Agency Information Collection Activities: Submission for OMB Review; Comment Request; Evaluation of PrintSTEP

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Evaluation of PrintSTEP, ICR Number 1941.01. The ICR describes the nature of the information collection and its expected burden and cost; where appropriate, it includes the actual data collection instrument.

DATES: Comments must be submitted on or before October 25, 2000.

ADDRESSES: Send comments referencing EPA ICR No. 1941.01 to the following addresses: Sandy Farmer, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by email at farmer.sandy@epamail.epa.gov, or download off the Internet at http://www.epa.gov/icr and refer to EPA ICR No. 1941.01. For technical questions about the ICR contact Amy Porter, Office of Compliance, (202) 564-2431.

SUPPLEMENTARY INFORMATION: Title: Information Collection Request for Evaluation of PrintSTEP, EPA ICR Number 1941.01. This is a new collection.

Abstract: Information will be collected for evaluation of the PrintSTEP pilot program. The evaluation aims to systematically identify the impacts the program has had on three types of stakeholders: printers, community residents, and the state government agencies administering the program.

Specifically, the evaluation will determine the extent to which the 7 goals of the pilot program are met. The goals are: enhanced environmental protection; increased use of pollution prevention practices; simplified regulatory process for printers; improved efficiency of administration for state governments; enhanced public involvement; participants' realize benefits and are motivated to participate in PrintSTEP; and, cost effectiveness for all stakeholders.

This broad set of expected outcomes will require a range of distinct data collection and analysis activities. Data will be gathered from printer's program applications, from telephone interviews, from in-person interviews and possibly from focus groups. Data will be collected before implementation, a short time after program implementation, and at the end of the pilot. Responses to the collection of information are voluntary. Names of persons providing information will be not recorded. More information is available in the final draft of the Evaluation Strategy which can be accessed at http://www.epa.gov/ooaujeag/sectors/pdf/pgm_eval.pdf .

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on March 14, 2000, 65 FR 13748. No comments were received.

Burden Statement: The annual public reporting and recordkeeping burden for this collection of information is estimated to average 15 minutes per response for 530 of the respondents and 2.75 hours for 480 of the respondents. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Printers and Community Members.

Estimated Number of Respondents: 158 Printers, 131 Community Members.

Frequency of Response: Printers—annually; Community Members—1 time only.

Estimated Total Annual Hour Burden: 2,000 hours.

Estimated Total Annualized Capital, Operating/Maintenance Cost Burden: $0.

Send comments on the Agency's need for this information, the accuracy of the provided burden estimates, and any suggested methods for minimizing respondent burden, including through the use of automated collection techniques to the addresses listed above. Please refer to EPA ICR No. 1941.01 in any correspondence.

Dated: September 18, 2000.
Oscar Morales,
Director, Collection Strategies Division.

[FR Doc. 00-24571 Filed 9-22-00; 8:45 am]

BILLING CODE 6560-50-P